DEPARTMENT OF COMMERCE

Minority Business Development Agency

Proposed Information Collection; Comment Request; Online Performance Database, the Online Phoenix Database, and the Online Opportunity Database

AGENCY: Minority Business Development Agency (MBDA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before February 17, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Ronald Marin, (202) 482-3341 or via the Internet at rmarin@mbda.gov.

SUPPLEMENTARY INFORMATION:

I. Abstract

Currently, as part of its service delivery programs, MBDA awards cooperative agreements each year. The recipient of each cooperative agreement is competitively selected to operate a client service center: (1) Minority Business Development Center (MBDC); or (2) Native American Business Development Center (NABDC) or (3) a Minority Business Opportunity Committee (MBOC) at one or more of the 50 sites serviced by MBDA. In accordance with the Government Performance and Results Act (GPRA), MBDA requires center operators to report client service activities quarterly (PERFORMANCE database); to list minority business enterprises (MBEs) doing business in the United States (PHOENIX database); and to match those MBEs with opportunities (OPPORUNITY database) entered in the system by public and private sector entities.

II. Method of Collection

Electronic transfer of performance data.

III. Data

OMB Number: 0640-0002.

Form Number: None.

Type of Review: Regular submission.

Affected Public: Business or other for-profit organizations; individuals or households; not-for-profit institutions; Federal Government; State, Local, or Tribal Government.

Estimated Number of Respondents: 2,670.

Estimated Time Per Response: 3 to 15 minutes per function.

Estimated Total Annual Burden Hours: 5,473.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: December 13, 2005.
Gwellnar Banks,
Management Analyst, Office of the Chief Information Officer.

[FR Doc. E5-7467 Filed 12-16-05; 8:45 am]

BILLING CODE 3510-21-P